DEPARTMENT OF THE INTERIOR

Bureau of Land Management

[OR118-6333-DT, HAG03-0218]

Notice of Availability of the Record of Decision for the Approved Amendments to the Medford Resource Management Plan for the Kelsey Whisky Landscape Management Planning Area

AGENCY: Glendale Resource Area, Medford District, Bureau of Land Management.

ACTION: Notice of availability.

SUMMARY: In accordance with the Federal Land Policy and Management Act and the National Environmental Policy Act, the Bureau of Land Management (BLM) announces the availability of the approved Amendment to the Medford Resource Management Plan (RMPA) for the Kelsey Whisky Landscape planning area.

The Medford District Manager and Glendale Resource Area Field Manager will subsequently be proposing decisions to implement specified wildlife habitat enhancement, fuels treatments, forest density management, commercial timber harvests and road construction projects identified in Alternative 1 of the Final Environmental Impact Statement (EIS)

DATES: The approved Medford RMP amendment decisions are effective immediately. Subsequent project or RMP implementation actions, such as timber sales, will occur over the next five-seven years and be announced locally and provide for additional public reviews. These projects are described in the preferred alternative of the FEIS and will be subject to 15-day protest periods as provided by 43 CFR 5003. Those decisions will be announced to the public through the publication of timber sale notices or their equivalent in The Grants Pass Daily Courier and Umpqua Free Press newspapers, as well as posted on the Medford District Web site at http://www.or.blm.gov/Medford under “Planning Documents”.

FOR FURTHER INFORMATION CONTACT: Lynda L. Boody, Field Manager, Glendale Resource Area, Bureau of Land Management, 3040 Biddle Road, Medford, OR 97504, and 541-618-2279.

SUPPLEMENTARY INFORMATION: The analysis area encompasses approximately 104,000 acres of public land managed by the Glendale Resource Area, Medford District, BLM, located in Josephine, Douglas and Curry counties in southwestern Oregon. The analysis document was prepared in conformance with Section 202 of the Federal Land Policy and Management Act and associated BLM planning regulations at 43 CFR 1610.5-5 and National Environmental Policy Act, the Endangered Species Act and other applicable laws, regulations and policies.

The BLM Oregon State Director's decision amends the Medford District Resource Management Plan by adding off-highway vehicle (OHV) restrictions to the transportation plan for a total reduction of 16.6 miles through road decommissioning and road closures with gates and barricades. In addition, 21.2 miles of existing roads would be improved or reconstructed and 1.5 miles of temporary roads authorized to facilitate transportation and management for other actions in the area. The State Director also determined that there was no immediate need to designate any special management areas, and authority or need to re-inventory for areas with wilderness characteristics.

Single copies of the draft and final environmental impact statements and the approved Medford RMP amendment document are available at the Medford District Office. Single copies will also be available for inspection during normal working hours at the Oregon State Office, Public Room, 333 SW 1st Avenue, Portland, Oregon, 97204. The document may also be reviewed on the BLM Web site at http://www.or.blm.gov/Medford under “Planning Documents”.

The road closure or transportation plan decisions amending the Medford District Resource Management Plan are effective immediately. Public participation has occurred throughout the planning process. A Notice of Intent was published in the Federal Register on June 7, 1999 and the Draft EIS Notice of Availability was published in the Federal Register on April 12, 2002. Public comments were solicited during scoping and through a 90 day comment period for the Draft EIS. The comments were analyzed and utilized where applicable to clarify and strengthen the Final EIS. A Final EIS was published March 21, 2003 and was available to the public for 30 days. Two protests on the planning component of the Final EIS were resolved. There were no formal findings of inconsistencies with officially approved or adopted natural resource related plans, programs or policies by the Governor of Oregon, per 43 CFR 1610.3-2(e).

Authority: Federal Land Policy and Management Act (FLPMA) and the National Environmental Policy Act (NEPA).

Dated: July 2, 2003.
Lynda L. Boody,
Field Manager Glendale Resource Area, Medford District Office.

[FR Doc. 03-24506 Filed 9-26-03; 8:45 am]

BILLING CODE 4310-33-P